DEPARTMENT OF TRANSPORTATION

Federal Aviation Administration

[Docket No.: FAA-2023-1281]

Notice of Rescission of Unmanned Aircraft Systems Remote Identification Declaration of Compliance, Tracking No. RID000000111 for DJI Mavic Pro Platinum Aircraft

AGENCY: Federal Aviation Administration, Department of Transportation.

ACTION: Notice.

SUMMARY: This notice rescinds a declaration of compliance (DOC) for the DJI Mavic Pro Platinum unmanned aircraft with the assigned tracking number RID000000111 that the FAA-accepted on January 19, 2023, effective immediately.

DATES: This action is effective July 12, 2023.

FOR FURTHER INFORMATION CONTACT: Caspar Wang, Product Policy Management: GA, Rotorcraft & Emerging Aircraft Section, AIR-62B, Technical Policy Branch, Policy & Standards Division, Federal Aviation Administration. 800 Independence Ave SW, Washington DC 20591, telephone 1-844-FLY-MY-UA; email: UASHelp@faa.gov.

SUPPLEMENTARY INFORMATION:

Background

Title 14, Code of Federal Regulations (14 CFR) part 89 establishes remote identification (RID) requirements for unmanned aircraft operated in the airspace of the United States. With a few exceptions, unmanned aircraft produced for operation in the airspace of the United States are subject to the production requirements of part 89. A person producing a standard RID unmanned aircraft or RID broadcast module for operation in the United States must show that the unmanned aircraft or broadcast module complies with the RID performance requirements of subpart D of part 89 by following a FAA-accepted means of compliance (MOC).

A DOC is the method by which a producer declares that a standard RID unmanned aircraft or RID broadcast module has been designed and produced to meet the applicable minimum performance requirements of subpart D of part 89 by using an FAA-accepted MOC.

The FAA relies on the DOC to ensure the standard RID unmanned aircraft or RID broadcast module identified on the DOC is designed and produced in accordance with an FAA-accepted MOC and complies with the applicable RID requirements of part 89.

On January 19, 2023, the FAA evaluated and accepted a DOC application with the assigned tracking number of RID000000111 appearing to be from DJI for the Mavic Pro Platinum unmanned aircraft. On February 16, 2023, the FAA received communication from DJI stating that the group of products listed in the DOC application with the assigned tracking number RID000000111 were, in fact, not compliant with the performance requirements of part 89. Therefore, DJI requested a rescission of the FAA-accepted DOC with tracking number RID000000111. DJI's subsequent internal review of the incident determined that the employee listed as the contact on the DOC application no longer had RID certification responsibilities at the time the DOC was submitted, and their employee stated he did not submit the RID000000111 DOC. The FAA is continuing to investigate.

Basis for Rescission

In accordance with § 89.540(a)(1)(i), the Administrator may rescind a DOC under the circumstance that a standard remote identification unmanned aircraft or remote identification broadcast module listed under an FAA-accepted DOC does not meet the minimum performance requirements of §§ 89.310 or 89.320. In accordance with § 89.540(a)(1)(ii), the Administrator may also rescind acceptance of a DOC when a previously FAA-accepted DOC does not meet a requirement of this subpart.

The basis for rescission of the DOC with tracking number RID000000111 is as follows:

(1) DJI statement to the FAA that the group of products listed on DOC tracking number RID000000111 is not compliant with part 89 RID performance requirements.

(2) Statement from the DJI employee, whose name was listed as point of contact on the DOC submission, stating he had not made the DOC submission.

(3) DJI's request for rescission of the DOC with tracking number RID000000111.

Rescission

Pursuant to §§ 89.540(a)(1)(i) and 89.540(a)(1)(ii) and for the reasons stated herein, the FAA rescinds the DOC tracking number RID000000111 for the DJI Mavic Pro Platinum unmanned aircraft.

Issued in Kansas City, Missouri on July 7, 2023.
Patrick R. Mullen,
Manager, Technical Policy Branch, Policy and Standards Division, Aircraft Certification Service.

[FR Doc. 2023-14802 Filed 7-11-23; 8:45 am]

BILLING CODE 4910-13-P